DEPARTMENT OF TRANSPORTATION

Pipeline and Hazardous Materials Safety Administration

Actions on Special Permit Applications

AGENCY: Office of Hazardous Materials Safety, Pipeline And Hazardous Materials Safety Administration, PHMSA, DOT.

ACTION: Notice of actions on special permit applications.

SUMMARY: In accordance with the procedures governing the application for, and the processing of, special permits from the Department of Transportation's Hazardous Material Regulations (49 CFR part 107, Subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on February 3, 2015.
Donald Burger,
Chief, Special Permits and Approvals Branch.

S.P. No. | Applicant | Regulation(s) | Nature of special permit thereof
MODIFICATION SPECIAL PERMIT GRANTED
9847-M | FIBA Technologies, Inc. (FIBA) Millbury, MA | 49 CFR 180.209(a), 180.205(c), (f), (g) and (i), 173.302a(b)(2), (3), (4) and (5), and 180.213 | To modify the special permit so that alternative certifications may be authorized for personnel responsible for performing cylinder retesting.
12661-M | United Parcel Service, Inc. Atlanta, GA | 49 CFR 172.202, 172.203(c), (k) and (m), 172.301, 172.400, and 172.302(c) | To modify the special permit to authorize Division 6.2 materials.
15985-M | Space Exploration Technologies Corp. (Space X) Hawthorne, CA | 49 CFR part 172 and 173 | To modify the special permit to authorize the transportation of hazardous materials by cargo vessel.
NEW SPECIAL PERMIT GRANTED
16039-N | UTLX Manufacturing LLC Alexandria, LA | 49 CFR 173.314(d) | To authorize the manufacture, marking, sale and use of non-DOT specification tank cars for the transportation in commerce of anhydrous ammonia. (mode 2)
16137-N | Diversified Laboratory Repair Gaithersburg, MD | 49 CFR 49 CFR 173.196 | To authorize the transportation in commerce of certain infectious substances in special packagings (freezers). (mode 1)
16118-N | Toyota Motor Sales, U.S.A., Inc. Torrance, CA | 49 CFR 173.301(a)(1) | To authorize the transportation in commerce of Hydrogen, compressed in non-DOT specification pressure containers. (modes 1, 2, 3, 4)
16191-N | Solvay Fluorides LLC Houston, TX | 49 CFR 173.205 | To authorize the transportation in commerce of Iodine Pentafluoride in a non-DOT specification welded, steel non-bulk packaging designed and constructed in accordance with Section VIII Division 1 of the ASME Code. (modes 1, 2, 3)
16307-N | Croman Corporation White City, OR | 49 CFR 172.101 Hazardous Materials Table Columns (8C) and (9B), 173.242, 175.310 | To authorize the transportation in commerce of certain Class 3 hazardous materials contained in non-DOT specification packaging of up to 500 gallon capacity by 14 CFR part 133 Rotorcraft External Load Operations transporting Class 3 hazardous materials attached to or suspended from a cargo aircraft when other means of transportation is not practicable. (mode 4)
16188-N | UTLX Manufacturing LLC Alexandria, LA | 49 CFR 179.100-4 and 179.100-12(b) | To authorize the manufacture, marking, sale and use of DOT 120J100W and 120J200W tank cars for transportation of Class 3 flammable and combustible liquids. (mode 2)
EMERGENCY SPECIAL PERMIT GRANTED
10427-M | Astrotech Space Operations LLC Titusville, FL | 49 CFR 173.61(a), 173.301(g), 173.302(a), 173.336, and 177.848(d) | To modify the special permit to authorize additional launch vehicles and increase the amount of Anhydrous ammonia to 120 pounds. (model 1)
16273-N | Lohman Helicopter, LLC. Kendrick, ID | 49 CFR 172.101 Table Column (9B), 172.200, 172.204(c)(3), 172.300, 173.27(b)(2), 175.75, 178 | To authorize the transportation in commerce of certain hazardous materials by 14 CFR part 133 Rotorcraft External Load Operations transporting hazardous materials attached to or suspended from an aircraft, in remote areas of the US only, without being subject to hazard communication requirements, quantity limitations and certain loading and stowage requirements. (mode 4)
MODIFICATION SPECIAL PERMIT WITHDRAWN
13359-M | BASF Corporation Florham Park, NJ | 49 CFR 173.301(f)(6), and 173.302a | To modify the special permit to authorize a UN certified pressure vessel.
10427-M | Astrotech Space Operations, Inc. Titusville, FL | 49 CFR 173.61(a), 173.301(g), 173.302(a), 173.336, and 177.848(d) | To modify the special permit to authorize additional launch vehicles and increase the amount of Anhydrous ammonia to 120 pounds.
NEW SPECIAL PERMIT WITHDRAWN
16332-N | Nalco Company Naperville, IL | 49 CFR 172.302(c), 178.705(c)(1) | To authorize the transportation in commerce of certain existing UN 31A IBCs manufactured of stainless steel and modified with a lid manufactured of Linear Medium Density Polyethylene. (modes 1, 2, 3)
16370-N | ActionSportGames USA Inc. Moorpark, CA | 49 CFR 173.304a | To authorize the transportation in commerce of UN1978 product marked as UN1950 to Denmark. (modes 1,3)
16363-N | CAL FIRE-Office of the State Fire Marshal Sacramento, CA | 49 CFR None provided | To authorize the transportation in commerce of fireworks packaged in alternative packagings.
EMERGENCY SPECIAL PERMIT WITHDRAWN
16360-N | DynaEnergetics US, Inc. Lakeway, TX | 49 CFR 173.56 | To authorize the transportation in commerce of Division 1.2 explosives without classification and approval. (modes 1, 2, 3)
DENIED
15832-M | Request by Baker Petrolite Corporation (BPC) Sugar Land, TX January 08, 2015. To modify the special permit to authorize an additional tank design.
14617-M | Request by Western International Gas & Cylinders, Inc. Bellville, TX January 30, 2015. To modify the special permit to add certain DOT 3AL seamless aluminum cylinders manufactured of aluminum alloy 6351, DOT 3BN, and cylinders manufactured in accordance with DOT-SP 9001, 9370, 9421, 9706, 9791, 9909, 10047, 10869 and 11692.
14569-M | Request by Northland Services Inc. Seattle, WA January 14, 2015. To modify the special permit to segregate Class 1 explosives from other hazardous materials when stowed on deck.

[FR Doc. 2015-02984 Filed 2-19-15; 8:45 am]

BILLING CODE 4909-60-M